DEPARTMENT OF ENERGY

Federal Energy Regulatory Commission

[Docket No. CP15-88-000]

Tennessee Gas Pipeline Company, L.L.C.; Notice of Availability of the Environmental Assessment for the Proposed Abandonment and Capacity Restoration Project

The staff of the Federal Energy Regulatory Commission (FERC or Commission) has prepared an environmental assessment (EA) for the Abandonment and Capacity Restoration Project (ACRP or Project), proposed by Tennessee Gas Pipeline Company, L.L.C. (TGP) in the above-referenced docket. Tennessee requests authorization and a Certificate of Public Convenience and Necessity pursuant to sections 7(b) and 7(c) of the Natural Gas Act to abandon, construct, modify, and operate natural gas pipeline facilities in Louisiana, Arkansas, Mississippi, Tennessee, Kentucky, and Ohio. The purpose of the Project is to disconnect and abandon pipeline segments from interstate natural gas service and construct and operate new natural gas infrastructure as a replacement to maintain service to existing customers. Following abandonment, TGP intends to sell the pipeline to Utica Marcellus Texas Pipeline LLC, an affiliate of TGP, for transportation of natural gas liquids.

The EA assesses the potential environmental effects of the construction and operation of the ACRP in accordance with the requirements of the National Environmental Policy Act. The FERC staff concludes that approval of the proposed Project, with appropriate mitigating measures, would not constitute a major federal action significantly affecting the quality of the human environment.

The EA addresses the potential environmental effects of the construction, modification, and operation of the following facilities associated with the Project:

• Abandonment in place of about 964 miles of pipeline between Columbiana County, Ohio, and Natchitoches Parish, Louisiana;

• disconnects of the abandoned pipeline and directly associated equipment at 14 existing compressor stations; abandonment in place of 82 existing mainline valves; and 125 sites where taps or crossover/connector lines would be disconnected, abandoned, relocated, or removed;

• construction of 12 short segments of new pipeline to reconnect customer taps to TGP's other existing pipelines totaling 5.3 miles of new pipeline (between 2 and 16 inches in diameter) in Ohio, Kentucky, Tennessee, and Mississippi;

• construction of four new compressor stations in Jackson, Morgan, Tuscarawas, and Mahoning Counties, Ohio;

• modification of existing Compressor Station 110 in Rowan County, Kentucky and additional modification of Compressor Station 875 (approved as part of the Broad Run Expansion Project, CP15-77) in Madison County, Kentucky;

• construction of 7.7 miles of new 36-inch-diameter pipeline in Carter and Lewis Counties, Kentucky; and

• construction of about 1.0 mile of 30-inch-diameter pipeline replacement in Washington County, Mississippi, and 1.5 miles of 30-inch-diameter pipeline replacements in six sections in Madison County, Kentucky.

The FERC staff mailed copies of the EA to federal, state, and local government representatives and agencies; elected officials; environmental and public interest groups; Native American tribes; potentially affected landowners and other interested individuals and groups; newspapers; and libraries in the project area. Paper copy versions of the EA were mailed to those specifically requesting them; all others received a CD version. In addition, the EA is available for public viewing on the FERC's Web site (www.ferc.gov) using the eLibrary link. A limited number of copies of the EA are available for distribution and public inspection at: Federal Energy Regulatory Commission, Public Reference Room, 888 First Street NE., Room 2A, Washington, DC 20426, (202) 502-8371.

Any person wishing to comment on the EA may do so. Your comments should focus on the potential environmental effects, reasonable alternatives, and measures to avoid or lessen environmental impacts. The more specific your comments, the more useful they will be. To ensure that your comments are properly recorded and considered prior to a Commission decision on the proposal, it is important that the FERC receives your comments on or before December 2, 2016.

For your convenience, there are three methods you can use to submit your comments to the Commission. In all instances, please reference the project docket number (CP15-88-000) with your submission. The Commission encourages electronic filing of comments and has expert staff available to assist you at (202) 502-8258 or efiling@ferc.gov.

(1) You can file your comments electronically using the eComment feature on the Commission's Web site (www.ferc.gov) under the link to Documents and Filings. This is an easy method for submitting brief, text-only comments on a project;

(2) You can also file your comments electronically using the eFiling feature on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing;” or

(3) You can file a paper copy of your comments by mailing them to the following address: Kimberly D. Bose, Secretary, Federal Energy Regulatory Commission, 888 First Street NE., Room 1A, Washington, DC 20426.

Any person seeking to become a party to the proceeding must file a motion to intervene pursuant to Rule 214 of the Commission's Rules of Practice and Procedures (Title 18 Code of Federal Regulations Part 385.214).¹ Only intervenors have the right to seek rehearing of the Commission's decision. The Commission grants affected landowners and others with environmental concerns intervenor status upon showing good cause by stating that they have a clear and direct interest in this proceeding that no other party can adequately represent. Simply filing environmental comments will not give you intervenor status, but you do not need intervenor status to have your comments considered.

¹ See the previous discussion on the methods for filing comments.

Additional information about the project is available from the Commission's Office of External Affairs, at (866) 208-FERC, or on the FERC Web site (www.ferc.gov) using the eLibrary link. Click on the eLibrary link, click on “General Search,” and enter the docket number excluding the last three digits in the Docket Number field (i.e., CP15-88). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Dated: November 2, 2016.
Nathaniel J. Davis, Sr.,
Deputy Secretary.

[FR Doc. 2016-26989 Filed 11-8-16; 8:45 am]

BILLING CODE 6717-01-P